DEPARTMENT OF JUSTICE

Notice of Lodging of Consent Decree Under the Comprehensive Environmental Response, Compensation, and Liability Act (Superfund)

Notice is hereby given that on March 2, 2011, a proposed Consent Decree (“Decree”) in United States and New Jersey v. Dominick Manzo, Carmella Manzo, and Ace-Manzo, Inc., Civil Action No. 3:97-cv-00289, was lodged with the United States District Court for the District of New Jersey.

The Decree resolves claims of the United States against the Defendants under Section 107 of the Comprehensive Environmental Response, Compensation, and Liability Act, as amended (“CERCLA”), 42 U.S.C. 9607 for the recovery of response costs incurred in connection with responding to the release or threat of release of hazardous substances at the Burnt Fly Bog Superfund Site, located in Monmouth and Middlesex Counties in New Jersey. The Decree also resolves the claims of the State of New Jersey for response costs and recovery of natural resource damages, and it resolves Defendants' counterclaims and third party action. Settlement in the amount of $19.025 million will be paid by Defendants and includes payments made by Defendants' insurance carriers.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States and New Jersey v. Dominick Manzo, Carmella Manzo, and Ace-Manzo, Inc., Civil Action No. 3:97-cv-00289 (D.N.J.), D.J. Ref. 90-11-2-488A.

The Decree may be examined at U.S. EPA Region 2, 290 Broadway, New York, NY 10007-1866. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury or, if by e-mail or fax, forward a check in that amount to the Consent Decree Library at the stated address.

Maureen Katz,
Assistant Chief, Environmental Enforcement Section, Environment and Natural Resources Division.

[FR Doc. 2011-5071 Filed 3-4-11; 8:45 am]

BILLING CODE 4410-15-P